COMMODITY FUTURES TRADING COMMISSION

Sunshine Act Meetings

FEDERAL REGISTER CITATION OF PREVIOUS ANNOUNCEMENT: 85 FR 19459, April 7, 2020.

PREVIOUSLY ANNOUNCED TIME AND DATE OF THE MEETING: 1:30 p.m. EDT, Tuesday, April 14, 2020.

CHANGES IN THE MEETING: The time of the meeting has changed. This meeting will now start at 2:00 p.m. EDT.

CONTACT PERSON FOR MORE INFORMATION: Christopher Kirkpatrick, 202-418-5964.

Authority: 5 U.S.C. 552b.

Dated: April 8, 2020.
Christopher Kirkpatrick,
Secretary of the Commission.

[FR Doc. 2020-07755 Filed 4-8-20; 4:15 pm]

BILLING CODE 6351-01-P